NATIONAL AERONAUTICS AND SPACE ADMINISTRATION

[Notice 01-056]

Notice of Prospective Patent License

AGENCY: National Aeronautics and Space Administration.

ACTION: Notice of prospective patent license.

SUMMARY: NASA hereby gives notice that OptoGel, Inc., of Ashlawn, Pennsylvania, has applied for an exclusive license to practice the invention disclosed in NASA Case No. GSC-13, 13-1 entitled “Sol-Gel Processing to Form Sol-Gel Monoliths Inside Hollow Core Optical Fiber and Sol-Gel Fiber Devices Made Thereby,” for which a U.S. Patent Application was filed and assigned to the United States of America as represented by the Administrator of the National Aeronautics and Space Administration. Publication of this notice is not a determination by NASA that the requested license will be granted, and NASA, in the absence of any objections or after reviewing any objections to this notice, may decide to grant the license as requested, grant co-exclusive or partially exclusive licenses, grant a nonexclusive license, or not grant any license at all. Written objections to the prospective grant of a license should be sent to Goddard Space Flight Center.

DATES: Responses to this notice must be received by July 2, 2001.

FOR FURTHER INFORMATION CONTACT: Diana Cox, Goddard Space Flight Center, Office of the Patent Counsel, Mail Code 710.1, Greenbelt, MD 20771, telephone (301) 286-7351.

Dated: April 27, 2001.
Edward A. Frankle,
General Counsel.

[FR Doc. 01-11065 Filed 5-2-01; 8:45 am]

BILLING CODE 7510-01-U